DEPARTMENT OF AGRICULTURE

Agricultural Marketing Service

[Doc. No. AMS-ST-17-0021]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget (OMB), for an extension of and revision to the currently approved information collection “Laboratory Approval Programs.”

DATES: Comments on this notice must be received by June 5, 2017 to be assured of consideration.

Additional Information or Comments: Interested persons are invited to submit comments on this proposal to Grace Vaillant, Laboratory Approval and Testing Division, Science and Technology, Agricultural Marketing Service, U.S. Department of Agriculture, 1400 Independence Avenue SW., Stop 0272, Washington, DC 20250-0272; Phone 202-690-0621, Fax 202-720-4631. Comments should be submitted in triplicate. Comments may also be submitted electronically through http://www.regulations.gov. All comments should reference the docket number and page number of this issue of the Federal Register. All comments received will be made available for public inspection at the above address during regular business hours and may be viewed at http://www.regulations.gov.

SUPPLEMENTARY INFORMATION: Title: Laboratory Approval Programs.

OMB Number: 0581-0251.

Expiration Date of Approval: September 30, 2017.

Type of Request: Extension and revision of a currently approved information collection.

Abstract: Under the Agricultural Marketing Act of 1946, as amended (7 U.S.C. 1621-1627), AMS' Laboratory Approval Service (LAS) approves, or accredits, laboratories to perform testing services in support of domestic and international trades. At the request of industry, other Federal agencies, or foreign governments, AMS develops and administers laboratory approval programs (LAPs) to verify that the analysis of food and agricultural products meet country or customer-specified requirements. LAS ensures the testing of products marketed is conducted by qualified and approved laboratories. LAPs requirements include good laboratory, quality assurance and control practices; applicable domestic and international standards (such as ISO/IEC 17025:2005); established methods and accepted equipment; and on-site audits. Laboratories voluntarily participate in the program and pay program fees. Currently, LAS administers four overarching LAPs with over 70 laboratories.

The information collection includes submission of a letter of intent and analyses related documentation. These requirements are essential to examine laboratories for entrance into and continued participation in the following programs:

(1) Aflatoxin Program—laboratories perform aflatoxin testing in support of domestic and/or export trade of almonds, peanuts, and pistachio nuts. (a) Almond. At the request of the Almond Board of California (ABC), AMS administers the program for aflatoxin testing of almonds destined for export to the European Union (EU) through the Pre-Export Certification program of ABC. (b) Peanuts. AMS administers Minimum Quality and Handling Standards for Domestic and Imported Peanuts Marketed in the United States (7 CFR 996 Parts 996.1—996.75). The regulation requires domestically marketed peanuts for human consumption to be analyzed for aflatoxin by a USDA or USDA-approved laboratory. AMS consults with the Peanut Standards Board on program requirements. (c) Pistachio Nuts. AMS administers mandatory domestic and import aflatoxin requirements for pistachio nuts under Pistachios Grown in California, Arizona, and New Mexico (7 CFR part 983) and Specialty Crops, Import Regulations (7 CFR part 999, Section 999.600), respectively. All domestic and import shipments of pistachio nuts intended for human consumption must be tested for aflatoxin contamination. At the request of the Administrative Committee for Pistachios, laboratories may also participate in the program for pistachio nuts destined for EU.

(2) Export Program—this program ensures the testing of meat and poultry products offered for export certification by the Food Safety and Inspection Service (FSIS) is conducted by qualified and approved laboratories. LAS collaborates with FSIS, the Foreign Agricultural Service, and the meat and poultry industries to administer a flexible and comprehensive program to provide reliable analyses of pesticide residues, environmental contaminants, veterinary drug residues, antibiotic residues, microorganisms, and parasites.

(3) Microbiological Testing for the Federal Purchase Program (FPP)—testing is limited to the analysis of aerobic plate counts, coliform counts, coagulase positive Staphylococcus aureus, generic Escherichia coli, Salmonella species, and Listeria monocytogenes in frozen, cooked, and diced chicken procured for the FPP. This is a new program added to the LAPs since the last OMB information collection approval.

(4) Any additional programs which may be requested in the future to facilitate the marketing of U.S. agricultural products.

All LAPs will follow the similar general procedures. Applicants would submit a letter of intent, provide related documentation on analyses they intend to perform, participate in proficiency testing (PT) sample analyses, and be audited by AMS auditors. The time required for information collection will depend on the complexity of the methodology and the time necessary to perform the analysis. The burden hours incurred for these laboratories to submit the initial letter requesting entrance and completion of analyses documentation is a one-time occurrence. Once a laboratory is accepted into the program, the information collection burden will decrease and will be based on the number of PT samples analyzed by the laboratory throughout the year in order to maintain its program status.

Form ST-212 (Alternate Payment Form) is an option applicant/approved laboratories may use to pay for participation in AMS LAPs. Interested parties can obtain a copy of the form (ST-212) by calling or writing to the point of contact listed above.

Estimate of Burden: Public reporting burden for this collection of information is estimated to average 10.94 hours per response.

Respondents: Laboratories.

Estimated Number of Respondents: 56.

Estimated Total Annual Responses: 380.

Estimated Number of Responses per Respondent: 7.

Estimated Total Annual Burden on Respondents: 4,157.30.

Comments are invited on: (1) Whether the proposed collection of information is necessary for the proper performance of the functions of the agency, including whether the information will have practical utility; (2) the accuracy of the agency's estimate of the burden of the proposed collection of information including completion of analyses related documentation; (3) ways to enhance the quality, utility, and clarity of the information to be collected; and (4) ways to minimize the burden of the collection of information on those who are to respond, including the use of appropriate automated, electronic, mechanical, or other technological collection techniques or other forms of information technology. Comments may be sent to Grace Vaillant, Laboratory Approval and Testing Division, Science and Technology, Agricultural Marketing Service, U.S. Department of Agriculture, 1400 Independence Avenue SW., Stop 0272, Washington, DC 20250-0272; Phone 202-690-0621, Fax 202-720-4631. All comments received will be available for public inspection during regular business hours at the same address.

All responses to this notice will be summarized and included in the request for OMB approval. All comments will become a matter of public record.

Dated: March 30, 2017.
Bruce Summers,
Acting Administrator, Agricultural Marketing Service.

[FR Doc. 2017-06641 Filed 4-3-17; 8:45 am]

BILLING CODE 3410-02-P